ENVIRONMENTAL PROTECTION AGENCY

40 CFR Part 86

Control of Emissions From New and In-Use Highway Vehicles and Engines

CFR Correction

▪ In Title 40 of the Code of Federal Regulations, Parts 82 to 86, revised as of July 1, 2017, on page 1134, following paragraph (b) of § 86.1917, the section heading of § 86.1920 is inserted to read as follows:

§ 86.1920 What in-use testing information must I report to EPA?

* * * * *

[FR Doc. 2018-14145 Filed 6-28-18; 8:45 am]

BILLING CODE 1301-00-D